FEDERAL COMMUNICATIONS COMMISSION

Notice of Public Information Collection(s) Being Reviewed by the Federal Communications Commission

February 3, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 13, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0647.

Title: Annual Survey of Cable Industry Prices.

Form No.: Not applicable.

Type of Review: Revision to a currently approved collection.

Respondents: Business or other for-profit.

Number of Respondents: 760.

Estimated Time Per Response: 8 hours.

Frequency of Response: Annual reporting requirement.

Total Annual Burden: 6,080 hours.

Total Annual Cost: $500.

Needs and Uses: Section 623(k) of the Cable Television Consumer Protection and Competition Act of 1992 (?1992 Cable Act?) requires the Commission to publish an annual statistical report on average rates for basic cable service, cable programming service and equipment. The report must compare the prices charged by cable systems subject to effective competition and those not subject to effective competition. The price survey is intended to collect data needed to prepare this report.

Federal Communications Commission.
Magalie Roman Salas,
Secretary.

[FR Doc. 00-3008 Filed 2-9-00; 8:45 am]

BILLING CODE 6712-01-P